DEPARTMENT OF ENERGY

Federal Energy Regulatory Commission

[Docket Nos. CP12-19-000; CP12-20-000]

Dominion Transmission, Inc.; Notice of Intent to Prepare an Environmental Assessment for the Proposed TIOGA Area Expansion and Sabinsville to Morrisville Projects, Request for Comments on Environmental Issues, and Notice of Public Scoping Meeting

The staff of the Federal Energy Regulatory Commission (FERC or Commission) will prepare an environmental assessment (EA) that will discuss the environmental affects associated with the construction and operation of the Tioga Area Expansion and Sabinsville to Morrisville Projects (Projects) with facilities in Pennsylvania and New York proposed by Dominion Transportation Inc. (DTI) in the above-referenced dockets. Although the Projects are proposed to serve different customers, we ¹ are combining them into a single EA because the facilities adjoin in the same geographic region and will affect a similar set of environmental resources. The Commission will use this EA in its decision-making process to determine whether the Projects are in the public convenience and necessity.

¹ “We,” “us,” and “our” refer to the environmental staff of the Commission's Office of Energy Projects.

This notice announces the opening of the scoping process the Commission will use to gather input from the public and interested agencies on the Projects. Your input will help the Commission staff determine what issues they need to evaluate in the EA. Please note that the scoping period will close on February 24, 2012.

You may submit comments in written form or verbally. Further details on how to submit written comments are in the Public Participation section of this notice. In lieu of or in addition to sending written comments, the Commission invites you to make verbal comments at the FERC public scoping meeting scheduled as follows: Wednesday, February 15, 2012, beginning at 6:30 p.m., Wellsboro High School Auditorium, 227 Nichols St., Wellsboro, PA 16901.

This notice is being sent to the Commission's current environmental mailing list for the Projects. State and local government representatives should notify their constituents about the proposed Projects and encourage them to comment on their areas of concern.

If you are a landowner receiving this notice, a DTI representative may contact you about the acquisition of an easement to construct, operate, and maintain the proposed facilities. The company would seek to negotiate a mutually acceptable agreement. However, if the Commission approves the project, that approval conveys with it the right of eminent domain. Therefore, if easement negotiations fail to produce an agreement, DTI could initiate condemnation proceedings where compensation would be determined in accordance with state law.

DTI provided landowners with a fact sheet prepared by the FERC entitled “An Interstate Natural Gas Facility On My Land? What Do I Need To Know?” This fact sheet addresses a number of typically asked questions, including the use of eminent domain and how to participate in the Commission's proceedings. It is also available for viewing on the FERC's internet Web site (www.ferc.gov).

Summary of the Proposed Project

The Tioga Area Expansion Project would provide up to 270,000 dekatherms-per-day (Dth/d) in firm transportation services to Shell Energy North America and Penn-Virginia Oil & Gas Company. The main facilities proposed by DTI in Docket No. CP12-19-000 would include:

• Installation of about 15 miles of new 24-inch-diameter pipeline (TL-610 Extension 1) beginning at Tennessee Gas Pipeline's (TGP) existing Sabinsville Meter Station and running south across portions of Clymer, Gaines, and Elk Townships in Tioga County, Pennsylvania;

• Installation of a new launcher and receiver at the southern terminus of the TL-610 Extension 1 Pipeline, at milepost (MP) 15.0, in Elk Township, Tioga County, Pennsylvania;

• Replacement of regulators and upgrade of monitor controls at the existing Boom Compressor Station in Lawrence Township, Tioga County, Pennsylvania;

• Installation of about 800 feet of new 24-inch-diameter pipeline (TL-614) between DTI's existing LN-50 pipeline and its existing Greenlick Compressor Station in Stewardson Township, Potter County, Pennsylvania;

• Installation of about 900 feet of new 24-inch-diameter pipeline (TL-615) between Texas Eastern Transmission Corporation's existing mainline and DTI's existing Crayne Compressor Station, in Franklin Township, Greene County, Pennsylvania;

• valve additions at DTI's existing Finnefrock Compressor Station in Leidy Township, Clinton County, Pennsylvania; and

• valve replacement and upgrade of monitor controls at DTI's existing Lindley Gate, in Steuben County, New York.

The Sabinsville to Morrisville Project would provide up to 920,000 Dth/d to TGP at a new receipt point. The main facilities proposed by DTI in Docket No. CP12-20-000 would include:

• Installation of about 3.6 miles of new 24-inch-diameter pipeline (TL-610), between the existing TGP Sabinsville Station and DTI's existing Sabinsville Gas Storage Station, in Clymer Township, Tioga County, Pennsylvania.

The general location of the Projects facilities is shown in Appendix 1.²

² The appendices referenced in this notice will not appear in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements

Construction of the Projects would disturb a total of about 241 acres of land for the pipelines and at the aboveground facilities. Following construction, DTI would retain about 125 acres as part of its permanent easement for the operation and maintenance of facilities. The remaining acres used temporarily during construction would be restored and revert back to their former uses. Almost all of the proposed pipeline routes would be adjacent or parallel to existing pipelines, utility, or road rights-of-way.

The EA Process

The National Environmental Policy Act (NEPA) requires the Commission to take into account the environmental affects that could result from an action whenever it considers the issuance of a Certificate of Public Convenience and Necessity. The NEPA also requires us to discover and address concerns the public may have about proposals. This process is referred to as “scoping.” The main goal of the scoping process is to focus the analysis in the EA on the important environmental issues. By this notice, the Commission requests public comments on the scope of the issues to address in the EA. We will consider all filed comments during the preparation of the EA.

The EA will discuss impacts that could occur as a result of the construction and operation of the proposed Projects under these general headings:

• Geology and soils;

• water resources and wetlands;

• vegetation and wildlife;

• cultural resources;

• land use;

• air quality and noise;

• public safety; and

• cumulative impacts.

The EA will present our independent analysis of the issues. The document will include our recommendations regarding measures to avoid or lessen adverse impacts on specific resources. In addition, in the EA we will evaluate feasible and reasonable alternatives to the proposed Projects, or portions of the Projects.

The EA will be available to the public through the “eLibrary” link on the FERC's Internet Web site. Depending on the comments received during the scoping process, we may also publish and distribute the EA to the environmental mailing list (see below) for an allotted comment period. We will consider all comments on the EA before making our recommendations to the Commission. To ensure we have the opportunity to consider and address your comments, please carefully follow the instructions in the Public Participation section of this notice.

With this notice, we are asking agencies with jurisdiction by law and/or special expertise with respect to the environmental issues of this project to formally cooperate with us in the preparation of the EA.³ Agencies that would like to request cooperating agency status should follow the instructions for filing comments provided under the Public Participation section of this notice.

³ The Council on Environmental Quality regulations addressing cooperating agency responsibilities are at Title 40, Code of Federal Regulations (CFR), Part 1501.6.

Consultations Under Section 106 of the National Historic Preservation Act

In accordance with the Advisory Council on Historic Preservation's implementing regulations for section 106 of the National Historic Preservation Act, we are using this notice to initiate consultations with the Pennsylvania and New York State Historic Preservation Offices (SHPO), and to solicit their views and those of other government agencies, interested Indian tribes, and the public on the project's potential effects on historic properties.⁴ We will define the project-specific Area of Potential Effects (APE) in consultation with the SHPOs. For typical natural gas projects, the APE at a minimum encompasses all areas subject to ground disturbance (examples include construction right-of-way, contractor/pipe storage yards, compressor stations, and access roads). Our EA for these Projects will identify historic properties that may be affected, and summarize the status of consultations under section 106.

⁴ The Advisory Council on Historic Preservation's regulations are at 36 CFR Part 800. Those regulations define historic properties as any prehistoric or historic district, site, building, structure, or object included in or eligible for inclusion in the National Register of Historic Places.

Public Participation

You can make a difference by providing us with your specific comments or concerns about the Projects. Your comments should focus on the potential environmental effects, reasonable alternatives, and measures to avoid or lessen environmental impacts. The more specific your comments, the more useful they will be. To ensure that your comments are timely and properly recorded, please send your comments so that the Commission receives them in Washington, DC on or before February 24, 2012.

For your convenience, there are three methods which you can use to submit your comments to the Commission. In all instances please reference the Projects docket numbers (CP12-19-000 and CP12-20-000) with your submission. The Commission encourages electronic filing of comments through the FERC's Internet Web site, and has expert technology staff available to assist you at (202) 502-8258 or efiling@ferc.gov.

(1) You can file your comments electronically using the eComment feature on the Commission's Web site (www.ferc.gov) under the link to Documents and Filings. This is an easy method for interested persons to submit brief, text-only comments on a project;

(2) You can file your comments electronically using the eFiling feature on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to: Kimberly D. Bose, Secretary, Federal Energy Regulatory Commission, 888 First Street NE., Room 1A, Washington, DC 20426.

Environmental Mailing List

The environmental mailing list includes federal, state, and local government representatives and agencies; elected officials; environmental groups and non-government organizations; Indian tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the proposed Projects.

If we publish and distribute the EA, copies will be sent to the environmental mailing list for review and comment. If you would prefer to receive a paper copy of the document instead of the CD version or would like to remove your name from the mailing list, please return the attached Information Request (Appendix 2).

Becoming an Intervenor

In addition to involvement in the environmental scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site.

Additional Information

Additional information about the project is available from the Commission's Office of External Affairs, at (866) 208-FERC, or on the FERC Web site at www.ferc.gov using the “eLibrary” link. Click on the eLibrary link, click on “General Search” and enter the docket number, excluding the last three digits in the Docket Number field (i.e., CP12-19). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to www.ferc.gov/esubscribenow.htm.

Finally, public meetings or site visits will be posted on the Commission's calendar located at www.ferc.gov/EventCalendar/EventsList.aspx along with other related information.

Dated: January 24, 2012.
Kimberly D. Bose,
Secretary.

[FR Doc. 2012-2006 Filed 1-30-12; 8:45 am]

BILLING CODE 6717-01-P